DEPARTMENT OF COMMERCE

Foreign-Trade Zones Board

[B-26-2024]

Foreign-Trade Zone (FTZ) 64; Authorization of Limited Production Activity; USA Big Mountain Paper Inc.; (Disposable Diapers/Underwear/Pads and Wet Wipes); Jacksonville, Florida

On May 20, 2024, USA Big Mountain Paper Inc. submitted a notification of proposed production activity to the FTZ Board for its facility within FTZ 64, in Jacksonville, Florida.

The notification was processed in accordance with the regulations of the FTZ Board (15 CFR part 400), including notice in the Federal Register inviting public comment (89 FR 46361, May 29, 2024). On September 17, 2024, the applicant was notified of the FTZ Board's decision that further review of part of the proposed activity is warranted. The FTZ Board authorized the production activity described in the notification on a limited basis, subject to the FTZ Act and the Board's regulations, including section 400.14, and further subject to a restriction requiring that spandex fiber be admitted in domestic/duty paid status (19 CFR 146.43).

Dated: September 17, 2024.
Elizabeth Whiteman,
Executive Secretary.

[FR Doc. 2024-21547 Filed 9-19-24; 8:45 am]

BILLING CODE 3510-DS-P